DEPARTMENT OF THE INTERIOR

National Park Service

[NPS-WASO-NAGPRA-NPS0038227; PPWOCRADN0-PCU00RP14.R50000]

Notice of Inventory Completion: Maxey Museum, Whitman College, Walla Walla, WA

AGENCY: National Park Service, Interior.

ACTION: Notice.

SUMMARY: In accordance with the Native American Graves Protection and Repatriation Act (NAGPRA), the Maxey Museum, Whitman College has completed an inventory of human remains and associated funerary objects and has determined that there is a cultural affiliation between the human remains and associated funerary objects and Indian Tribes or Native Hawaiian organizations in this notice.

DATES: Repatriation of the human remains and associated funerary objects in this notice may occur on or after August 12, 2024.

ADDRESSES: Libby Miller, Maxey Museum, Whitman College, 345 Boyer Avenue, Walla Walla, WA 99362, telephone: (509) 876-7327, email millerem@whitman.edu.

SUPPLEMENTARY INFORMATION: This notice is published as part of the National Park Service's administrative responsibilities under NAGPRA. The determinations in this notice are the sole responsibility of the Maxey Museum, Whitman College, and additional information on the determinations in this notice, including the results of consultation, can be found in its inventory or related records. The National Park Service is not responsible for the determinations in this notice.

Abstract of Information Available

Human remains representing, at minimum, one individual have been identified. The one associated funerary objects is one lot of copper beads and string. The human remains consist of a large adult mandible with four extremely worn teeth. Collected by Myron Eells between 1874 and 1907. Exact location unknown. Eells occasionally noted tribal affiliation and/or places of origin, as here it appears as “Clallam” (Klallam). The AFOs are listed in accession records as “Hudson's Bay Company, from graves, Sequim, Washington. Clallam”. Donated to Whitman in 1906 or 1907 at the time of Eells' death.

Cultural Affiliation

Based on the information available and the results of consultation, cultural affiliation is clearly identified by the information available about the human remains and associated funerary objects described in this notice.

Determinations

The Maxey Museum at Whitman College has determined that:

• The human remains described in this notice represent the physical remains of one individual of Native American ancestry.

• The one lot of objects described in this notice are reasonably believed to have been placed intentionally with or near individual human remains at the time of death or later as part of the death rite or ceremony.

• There is a connection between the human remains and associated funerary objects described in this notice and the Jamestown S'Klallam Tribe.

Requests for Repatriation

Written requests for repatriation of the human remains and associated funerary objects in this notice must be sent to the authorized representative identified in this notice under ADDRESSES. Requests for repatriation may be submitted by:

1. The Indian Tribe identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects in this notice to a requestor may occur on or after August 12, 2024. If competing requests for repatriation are received, the Maxey Museum, Whitman College must determine the most appropriate requestor prior to repatriation. Requests for joint repatriation of the human remains and associated funerary objects are considered a single request and not competing requests. The Maxey Museum, Whitman College is responsible for sending a copy of this notice to the Indian Tribe identified in this notice.

Authority: Native American Graves Protection and Repatriation Act, 25 U.S.C. 3003, and the implementing regulations, 43 CFR 10.10.

Dated: June 26, 2024.
Melanie O'Brien,
Manager, National NAGPRA Program.

[FR Doc. 2024-15205 Filed 7-10-24; 8:45 am]

BILLING CODE 4312-52-P